DEPARTMENT OF COMMERCE

National Oceanic and Atmospheric Administration

RIN 0648-BB69

New England Fishery Management Council; Notice of Intent To Prepare an Environmental Impact Statement (EIS); Northeast Multispecies Fishery; Notice of Public Scoping Meetings; Correction

AGENCY: National Marine Fisheries Service (NMFS), National Oceanic and Atmospheric Administration (NOAA), Commerce.

ACTION: Notice; correction.

SUMMARY: This action makes a correction to a notice published on December 21, 2011. The notice referenced a control date of March 7, 2011; however the correct date is April 7, 2011. This notice inserts the correct April 7, 2011, control date, as intended.

FOR FURTHER INFORMATION CONTACT: Travis Ford, Fishery Management Specialist, 978-281-9233.

SUPPLEMENTARY INFORMATION: NMFS published a Notice of Intent (NOI) to prepare an Environmental Impact Statement and announced public scoping meetings for the New England Fishery Management Council's (Council) Amendment 18 to the Northeast Multispecies Fishery Management Plan (Amendment 18) on December 21, 2011 (76 FR 79153). The subject document contained an error that needs to be corrected.

In the background information for the December 21, 2011 notice there is a reference to a March 7, 2011 control date for the NE multispecies fishery. Because the date reflects the wrong month, therefore, NMFS, through this notice, corrects the control date to April 7, 2011. Other published materials referencing the control date reflect the correct date of April 7, 2011.

Correction

The NOI published on December 21, 2011, in FR Doc. 2011-32694, on page 79154, in column 2, in the first full paragraph, line 2, correct the month “March” to read as “April.”

Authority: 16 U.S.C. 1801 et seq.

Dated: February 14, 2012.
Carrie Selberg,
Acting Director, Office of Sustainable Fisheries, National Marine Fisheries Service.

[FR Doc. 2012-3846 Filed 2-17-12; 8:45 am]

BILLING CODE 3510-22-P